DEPARTMENT OF VETERANS AFFAIRS

Veterans' Advisory Committee on Environmental Hazards; Notice of Meeting

The Department of Veterans Affairs (VA) gives notice under Public Law 92-463 (Federal Advisory Committee Act) that a meeting of the Veterans' Advisory Committee on Environmental Hazards will be held August 1-2, 2005, in room C-7B at VA Central Office, 810 Vermont Avenue, NW., Washington, DC 20420. The meeting will run from 8 a.m. to 4 p.m. each day and is open to the public.

The purpose of the Committee is to provide advice to the Secretary of Veterans Affairs on adverse health effects that may be associated with exposure to ionizing radiation and to make recommendations on proposed standards and guidelines regarding VA benefit claims based upon exposure to ionizing radiation.

On August 1, VA's Public Health and Environmental Hazards Office and Compensation and Pension Service will make presentations to the Committee. On August 2, the Committee will plan future activities and assign tasks to committee members.

Those who wish to attend should contact Ms. Bernice Green of the Department of Veterans Affairs, Compenstaion and Pension Service, 810 Vermont Avenue, SW., Washington, DC 20420, by phone at (202) 273-7210, or by fax at (202) 275-1728. The Committee will accept written comments, which can be addressed to Ms. Ersie Farber, Designated Federal Officer, at the Department of Veterans Affairs, Veterans Benefits Administration (21), 810 Vermont Avenue, NW., Washington, DC 20420. In all communication to the Committee, writers must identify themselves and state the organizations, associations, or persons they represent.

An open forum for verbal statements from the public will also be available in the afternoon each day. Each person who wishes to make a verbal statement before the Committee will be accommodated on a first come, first served basis and will be provided three (3) minutes to present the statement.

Dated: June 24, 2005.
By direction of the Secretary.
E. Philip Riggin,
Committee Management Officer.

[FR Doc. 05-12959 Filed 6-29-05; 8:45 am]

BILLING CODE 8320-01-M